DEPARTMENT OF COMMERCE

International Trade Administration

Healthcare Trade and Investment Mission to Peru

March 7-9, 2016.

AGENCY: International Trade Administration, Department of Commerce.

ACTION: Notice.

SUMMARY: The U.S. Department of Commerce, International Trade Administration, is organizing a healthcare trade and investment mission to Peru. The mission is designed to promote U.S. companies in the following areas: Pharmaceutical producers, medical device manufacturers, hospital operation and management services, hospital information systems, and eHealth solutions. The mission also will assist U.S. companies already doing business in Peru to expand their footprint. This mission will be executive-led.

Schedule
Sunday, March 6 | Arrive in Lima, Peru and hotel check-in.
Monday, March 7 | Welcome and overview of Mission.
| Market briefings from U.S. Embassy and Industry experts.
| Government meetings.
| Ambassador Hosted Networking reception.
Tuesday, March 8 | Meetings with Private Sector groups.
| Networking Luncheon with AmCham & Lima Chamber.
| Group Mission ends.
Wednesday, March 9 | One-on-one business matchmaking meetings (optional).

Web site: Please visit our official mission Web site for more information: http://export.gov/tradeamericas/trademissionperu2016/.

Participation Requirements

All parties interested in participating in the healthcare trade and investment mission to Peru must complete and submit an application package for consideration by the Department of Commerce. All applicants will be evaluated on their ability to meet certain conditions and best satisfy the selection criteria as outlined below. A maximum of 20 companies or trade associations will be selected to participate in the mission from the applicant pool.

Peru's local healthcare-related manufacturing is limited to consumables, basic electro diagnostics and hospital furniture, which explains Peru's low export volumes. Regional governments and private companies look towards foreign medical equipment and device suppliers to fulfill the demand. This market trend creates vast opportunities for U.S. businesses that specialize in state of the art equipment such as computed tomography (CT) scanners, robotic radiosurgery system, and gamma knives.

Fees and Expenses

After an applicant has been selected to participate in the mission, a payment to the U.S. Department of Commerce in the form of a participation fee is required. Upon notification of acceptance to participate, those selected have five (5) business days to submit payment or the acceptance may be revoked.

The participation fee for the trade mission to Peru is $1,500 for small- or medium-sized enterprises (SME*) and $2,800 for large companies and/or trade associations. The fee for each additional representative (large firm or SME or trade association/organization) is $500. Companies that opt for the additional day of one-on-one business matchmaking appointments will pay an additional fee of $1,500 (includes related expenses like transportation and interpretation) separately.

Application

All interested firms and associations may register via the following link: http://emenuapps.ita.doc.gov/ePublic/TM/6R0R.

Exclusions

The mission fee does not include any personal travel expenses such as lodging, most meals, local ground transportation (except for transportation to and from meetings), and air transportation. Participants may, however, be able to take advantage of U.S. Government rates for hotel rooms if available. Business or entry visas may be required to participate on the mission. Applying for and obtaining such visas will be the responsibility of the mission participant. Government fees and processing expenses to obtain such visas are not included in the participation fee. However, the Department of Commerce will provide instructions to each participant on the procedures required to obtain necessary visas.

Timeline for Recruitment and Applications

Mission recruitment will be conducted in an open and public manner, including publication in the Federal Register, posting on the U.S. Commerce Department trade mission calendar (http://www.export.gov/trademissions/) and other Internet Web sites, press releases to general and trade media, direct mail, broadcast fax, notices by industry trade associations and other multiplier groups, and publicity at industry meetings, symposia, conferences, and trade shows.

Recruitment for this mission will begin immediately and conclude no later than February 1, 2016. The U.S. Department of Commerce will review applications and make selection decisions as quickly as possible after the February 1, 2016 deadline. Applications received after February 1, 2016 will be considered only if space and scheduling constraints permit.

Conditions for Participation

Applicants must submit a completed and signed mission application and supplemental application materials, including information on their products and/or services, primary market objectives, and goals for participation by February 1, 2016. If the U.S. Department of Commerce receives an incomplete application, the Department may either: Request additional information/clarification, take the lack of information into account when evaluating the application, or reject the application.

Each applicant must also certify that the products and services it seeks to export through the mission are either produced in the United States, or, if not, are marketed under the name of a U.S. company and have at least fifty-one percent U.S. content by value. In the case of a trade association or organization, the applicant must certify that, for each firm or service provider to be represented by the association/organization, the products and/or services the represented firm or service provider seeks to export are either produced in the United States or, if not, marketed under the name of a U.S. company and have at least fifty-one percent U.S. content.

In addition, each applicant must:

• Certify that the products and services that it wishes to market through the mission would be in compliance with U.S. export controls and regulations;

• Certify that it has identified any matter pending before any bureau or office in the U.S. Department of Commerce;

• Certify that it has identified any pending litigation (including any administrative proceedings) to which it is a party that involves the U.S. Department of Commerce;

• Sign and submit an agreement that it and its affiliates (1) have not and will not engage in the bribery of foreign officials in connection with a company's/participant's involvement in this mission, and (2) maintain and enforce a policy that prohibits the bribery of foreign officials; and

• Certify that it meets the minimum requirements as stated in this announcement.

In the case of a trade association/organization, the applicant must certify that each firm or service provider to be represented by the association/organization can make the above certifications.

FOR FURTHER INFORMATION CONTACT:

Diego Gattesco, Trade Americas Team Leader, U.S. Commercial Service—Wheeling, WV, Tel: 304-243-5493, Email: Diego.Gattesco@trade.gov.

Ms. Anne Novak, International Trade Specialist, Office of Trade Promotion Programs, U.S. Department of Commerce, Washington, DC 20230, Tel: 202-482-8178, Fax: 202-482-9000, Anne.Novak@trade.gov.

Frank Spector,
Acting Director, Trade Missions Program.

[FR Doc. 2015-31147 Filed 12-9-15; 8:45 am]

BILLING CODE 3510-DR-P